DEPARTMENT OF COMMERCE

International Trade Administration

[A-583-854]

Certain Steel Nails From Taiwan: Final Results of Antidumping Duty Administrative Review; 2023-2024

AGENCY: Enforcement and Compliance, International Trade Administration, U.S. Department of Commerce.

SUMMARY: The U.S. Department of Commerce (Commerce) determines that certain steel nails (nails) from Taiwan were sold in the United States at less than normal value during the period of review (POR), July 1, 2023, through June 30, 2024.

DATES: Applicable June 12, 2025.

FOR FURTHER INFORMATION CONTACT: Henry Wolfe, AD/CVD Operations, Office VIII, Enforcement and Compliance, International Trade Administration, Department of Commerce, 1401 Constitution Avenue NW, Washington, DC 20230; telephone: (202) 482-0574.

SUPPLEMENTARY INFORMATION:

Background

On April 3, 2025, Commerce published the Preliminary Results in the Federal Register and invited interested parties to comment on those results.¹ No interested party submitted comments on the Preliminary Results.² Accordingly, the final results remain unchanged from the Preliminary Results and there is no decision memorandum accompanying this notice. The Preliminary Results are hereby adopted as these final results. Commerce conducted this administrative review in accordance with section 751(a)(1)(B) of the Tariff Act of 1930, as amended (the Act).

¹ See Certain Steel Nails from Taiwan: Preliminary Results of Antidumping Duty Administrative Review and Partial Rescission of Review; 2023-2024, 90 FR 14633 (April 3, 2025) (Preliminary Results).

² We note that a case brief was filed by Tricera and rejected by Commerce and that petitioner's comments pertaining to the same case brief were also rejected, see Commerce's Letter, “Rejection of Tricera Case Brief,” dated April 24, 2025; see also Commerce's Letter, “Rejection of Submission Containing Untimely Filed Comments and Responding Submission,” dated May 1, 2025.

This review covers four producers and/or exporters of the subject merchandise. Commerce selected four companies, (1) Dar Yu Enterprise Co Ltd (Dar Yu); (2) Liang Chyuan Industrial Co. Ltd (Liang Chyuan); (3) Tricera Corp (Tricera); and (4) Your Standing International Inc (YSI), for individual examination.³

³ See Memorandum, “Respondent Selection,” dated September 17, 2024; see also Memorandum “Selection of Additional Mandatory Respondents,” dated November 25, 2024.

Scope of the Order ⁴

⁴ See Certain Steel Nails from the Republic of Korea, Malaysia, the Sultanate of Oman, Taiwan, and the Socialist Republic of Vietnam: Antidumping Duty Orders, 80 FR 39994 (July 13, 2015) (Order).

The merchandise covered by the Order is nails having a nominal shaft length not exceeding 12 inches.⁵ Nails include, but are not limited to, nails made from round wire and nails that are cut from flat-rolled steel. Nails may be of one piece construction or constructed of two or more pieces. Nails may be produced from any type of steel, and may have any type of surface finish, head type, shank, point type and shaft diameter. Finishes include, but are not limited to, coating in vinyl, zinc (galvanized, including but not limited to electroplating or hot dipping one or more times), phosphate, cement, and paint. Nails may have one or more surface finishes. Head styles include, but are not limited to, flat, projection, cupped, oval, brad, headless, double, countersunk, and sinker. Shank styles include, but are not limited to, smooth, barbed, screw threaded, ring shank and fluted. Screw-threaded nails subject to this proceeding are driven using direct force and not by turning the nail using a tool that engages with the head. Point styles include, but are not limited to, diamond, needle, chisel and blunt or no point. Nails may be sold in bulk, or they may be collated in any manner using any material.

⁵ The shaft length of nails with flat heads or parallel shoulders under the head shall be measured from under the head or shoulder to the tip of the point. The shaft length of all other nails shall be measured overall.

Excluded from the scope of the Order are nails packaged in combination with one or more non-subject articles, if the total number of nails of all types, in aggregate regardless of size, is less than 25. If packaged in combination with one or more non-subject articles, nails remain subject merchandise if the total number of nails of all types, in aggregate regardless of size, is equal to or greater than 25, unless otherwise excluded based on the other exclusions below.

Also excluded from the scope are nails with a nominal shaft length of one inch or less that are (a) a component of an unassembled article, (b) the total number of nails is sixty (60) or less, and (c) the imported unassembled article falls into one of the following eight groupings: (1) Builders' joinery and carpentry of wood that are classifiable as windows, French-windows and their frames; (2) builders' joinery and carpentry of wood that are classifiable as doors and their frames and thresholds; (3) swivel seats with variable height adjustment; (4) seats that are convertible into beds (with the exception of those classifiable as garden seats or camping equipment); (5) seats of cane, osier, bamboo or similar materials; (6) other seats with wooden frames (with the exception of seats of a kind used for aircraft or motor vehicles); (7) furniture (other than seats) of wood (with the exception of (i) medical, surgical, dental or veterinary furniture; and (ii) barbers' chairs and similar chairs, having rotating as well as both reclining and elevating movements); or (8) furniture (other than seats) of materials other than wood, metal, or plastics (e.g., furniture of cane, osier, bamboo or similar materials). The aforementioned imported unassembled articles are currently classified under the following Harmonized Tariff Schedule of the United States (HTSUS) subheadings: 4418.10, 4418.20, 9401.30, 9401.40, 9401.51, 9401.59, 9401.61, 9401.69, 9403.30, 9403.40, 9403.50, 9403.60, 9403.81, or 9403.89.

Also excluded from the scope of the Order are nails that meet the specifications of Type I, Style 20 nails as identified in Tables 29 through 33 of ASTM Standard F1667 (2013 revision).

Also excluded from the scope of the Order are nails suitable for use in powder-actuated hand tools, whether or not threaded, which are currently classified under HTSUS subheadings 7317.00.20.00 and 7317.00.30.00.

Also excluded from the scope of the Order are nails having a case hardness greater than or equal to 50 on the Rockwell Hardness C scale (HRC), a carbon content greater than or equal to 0.5 percent, a round head, a secondary reduced-diameter raised head section, a centered shank, and a smooth symmetrical point, suitable for use in gas-actuated hand tools.

Also excluded from the scope of the Order are corrugated nails. A corrugated nail is made up of a small strip of corrugated steel with sharp points on one side.

Also excluded from the scope of the Order are thumb tacks, which are currently classified under HTSUS subheading 7317.00.10.00.

Nails subject to the Order are currently classified under HTSUS subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60, and 7317.00.75.00. Nails subject to this Order also may be classified under HTSUS subheadings 7907.00.60.00, 8206.00.00.00, 7806.00.80.00, 7318.29.00.00, or other HTSUS subheadings.

While the HTSUS subheadings are provided for convenience and customs purposes, the written description of the scope of the Order is dispositive.

Use of Facts Available With Adverse Inferences

As discussed in the Preliminary Results, we are relying entirely upon facts otherwise available, pursuant to sections 776(a) and (b) of the Act, to assign estimated dumping margins to mandatory respondents Dar Yu, Liang Chyuan, Tricera, and YSI because these companies were unresponsive to our requests for information, and thereby withheld necessary information that was requested by Commerce, failed to provide the information requested by the specified deadlines in the form and manner requested, and significantly impeded the review. Further, Commerce continues to find that Dar Yu, Liang Chyuan, Tricera, and YSI failed to cooperate by not acting to the best of their ability to comply with requests for information and, thus, Commerce is applying an adverse inference in selecting among the facts available, in accordance with section 776(b) of the Act. Using adverse facts available (AFA), we are assigning these companies a rate of 78.17 percent, which is the highest rate applied in any segment of this proceeding.

Final Results of Review

As a result of our review, we have determined the following dumping margins for the firms listed below for the period July 1, 2023, through June 30, 2024:

Exporter/producer | Weighted-average dumping margin (percent)
Dar Yu Enterprise Co Ltd (Dar Yu) | 78.17
Liang Chyuan Industrial Co Ltd. (Liang Chyuan) | 78.17
Tricera Corp (Tricera) | 78.17
Your Standing International Inc (YSI) | 78.17

Disclosure

Normally, Commerce discloses to interested parties the calculations performed in connection with the final results of administrative review within five days of any public announcement or, if there is no public announcement, within five days of the date of publication of the notice of the final results in the Federal Register, in accordance with 19 CFR 351.224(b). However, because Commerce applied AFA to the four companies subject to this review, and there are no changes from the Preliminary Results, there are no calculations to disclose.

Assessment Rates

Pursuant to section 751(a)(2)(C) of the Act, and 19 CFR 351.212(b)(1), Commerce has determined, and U.S. Customs and Border Protection (CBP) shall assess, antidumping duties on all appropriate entries of subject merchandise in accordance with the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of the subject merchandise entered, or withdrawn from warehouse, for consumption on or after the date of publication of the final results of this administrative review, as provided by section 751(a)(2)(C) of the Act: (1) the cash deposit rate for Dar Yu, Liang Chyuan, Tricera, and YSI, will be equal to the appropriate dumping margin established in the final results of this administrative review; (2) for merchandise exported by producers or exporters not covered in this review but covered in a prior completed segment of the proceeding, the cash deposit rate will continue to be the company-specific rate published in the completed segment for the most recent period; (3) if the exporter is not a firm covered in this review, a prior review, or the original less than fair value (LTFV) investigation, but the producer has been covered in a prior completed segment of this proceeding, then the cash deposit rate will be the rate established in the completed segment for the most recent period for the producer of the merchandise; and (4) the cash deposit rate for all other producers and exporters will continue to be 2.16 percent, the all-others rate established in the LTFV investigation, as amended.⁶ These cash deposit requirements, when imposed, shall remain in effect until further notice.

⁶ See Certain Steel Nails from Taiwan: Notice of Court Decision Not in Harmony With Final Determination in Less Than Fair Value Investigation and Notice of Amended Final Determination, 82 FR 55090 (November 20, 2017).

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing these final results of administrative review in accordance with sections 751(a)(1) and 777(i) of the Act, and 19 CFR 351.221(b)(5).

Dated: June 6, 2025.
Steven Presing,
Acting Deputy Assistant Secretary for Policy and Negotiations.

[FR Doc. 2025-10729 Filed 6-11-25; 8:45 am]

BILLING CODE 3510-DS-P